DEPARTMENT OF HOMELAND SECURITY

Transportation Security Administration

[Docket No. TSA-2016-0001]

RIN 1652-ZA20

Legal Interpretation of “Field of Transportation”

AGENCY: Transportation Security Administration, DHS.

ACTION: Notice of availability.

SUMMARY: The Transportation Security Administration (TSA) is providing notice that it has issued a legal interpretation of the phrase “field of transportation” that is referenced in the statute requiring TSA to charge fees to recover the cost of its vetting services. By defining this term, TSA clarifies the individuals from whom we may collect and retain fees to recover vetting costs. This interpretation does not address the term “field of transportation” as it is used in other laws or contexts.

FOR FURTHER INFORMATION CONTACT: Christine Beyer, Senior Counsel, Regulations and Security Standards, Office of the Chief Counsel, TSA-2, Transportation Security Administration, 601 South 12th Street, Arlington, VA 20598-6002; telephone (571) 227-2702; email Christine.beyer@tsa.dhs.gov.

SUPPLEMENTARY INFORMATION:

Background

Over the past decade, some Federal agencies and stakeholders have asked TSA whether their employees could enroll for security vetting and pay fees to TSA for this service. In these cases, it was clear that the individuals at issue were in transportation because they were transporting dangerous goods in commercial vehicles. However, recently we have received inquiries concerning the delineation of where transportation begins and ends where the answer is not so apparent. Several key stakeholder groups have asked which employees, employers, or activities in the chemical industry fall within the scope of “field of transportation” in TSA's fee statute, sec. 469(a) of title 6 of the U.S. Code (6 U.S.C. 469(a)), and could pay for TSA's vetting services through user fees.

The fee statute requires TSA to charge reasonable fees for providing credentialing and background investigations in the “field of transportation” but does not define the populations or types of workers included in the field of transportation. It is necessary to interpret the language so that TSA and chemical industry employers and workers all understand the individuals who may pay user fees that TSA can retain to recover vetting costs.

This interpretation states that the “field of transportation” under 6 U.S.C. 469(a) includes an individual, activity, entity, facility, owner, or operator that is subject to regulation by TSA, DOT, or the U.S. Coast Guard, and individuals applying for trusted traveler programs.

Publication of this notice of availability in the Federal Register provides public notice that the full interpretation is available for review and downloading from TSA's electronic public docket on the Internet and a link to the docket on TSA's Web site. TSA will also share the interpretation with stakeholders through industry engagement meetings and with appropriate Congressional Committee staff.

Document Availability

You can get an electronic copy of both this notice and the interpretation of the field of transportation as it is used in 6 U.S.C. 469(a) on the Internet by—

(1) Searching the electronic Federal Docket Management System (FDMS) Web page at http://www.regulations.gov, Docket No. TSA-2016-0001; or

(2) Accessing TSA's Web pages at https://www.tsa.gov/for-industry/hazmat-endorsement, https://www.tsa.gov/for-industry/twic and https://www.tsa.gov/for-industry/surface-transportation.

In addition, copies are available by writing or calling the individual in the FOR FURTHER INFORMATION CONTACT section. Make sure to identify the docket number of this rulemaking.

Dated: September 22, 2016.
Susan M. Prosnitz,
Deputy Chief Counsel, Regulations and Security Standards.

[FR Doc. 2016-23370 Filed 9-27-16; 8:45 am]

BILLING CODE 9110-05-P